Title 3—

The President

Proclamation 7479 of October 5, 2001

Death of Michael J. Mansfield

By the President of the United States of America

A Proclamation

As a mark of respect for the memory of Michael J. Mansfield, retired Majority Leader of the United States Senate and Ambassador of the United States to Japan, I hereby order, by the authority vested in me as President of the United States by the Constitution and the laws of the United States of America, that on the day of his interment, the flag of the United States shall be flown at half-staff at the White House and upon all public buildings and grounds, at all military posts and naval stations, and on all naval vessels of the Federal Government in the District of Columbia and throughout the United States and its Territories and possessions until sunset on such day. I also direct that the flag shall be flown at half-staff for the same lengths of time at all United States embassies, legations, consular offices, and other facilities abroad, including all military facilities and naval vessels and stations.

IN WITNESS WHEREOF, I have hereunto set my hand this fifth day of October, in the year of our Lord two thousand one, and of the Independence of the United States of America the two hundred and twenty-sixth.

B

[FR Doc. 01-25674

Filed 10-9-01; 12:11 pm]

Billing code 3195-01-P